DEPARTMENT OF COMMERCE

National Oceanic and Atmospheric Administration

RIN 0648-XD325

Caribbean Fishery Management Council; Public Hearings and Meetings

AGENCY: National Marine Fisheries Service (NMFS), National Oceanic and Atmospheric Administration (NOAA), Commerce.

ACTION: Notice of public hearings and scoping meetings.

SUMMARY: The Caribbean Fishery Management Council (Council) will hold public hearings to obtain input from fishers, the general public and the local agencies representatives on the Draft Comprehensive Amendment to the U.S. Caribbean Fishery Management Plans (FMPs): Annual Catch Limit Control Rule. Immediately following, the Council will hold scoping meetings on the Scoping Document that addresses the Timing of Accountability Measure-Based Seasonal Closures in all the U.S. Caribbean FMPs. These are separate actions, each of which would amend the Council FMPs for the Reef Fish Resources, Corals and Reef Associated Plants and Invertebrates, Spiny Lobster, and Queen Conch Resources of Puerto Rico and the U.S. Virgin Islands.

Dates and Addresses: The Public Hearings and Scoping Meetings will be held on the following dates and locations:

In Puerto Rico:

June 23rd, 2014—7 p.m.-10 p.m.—Holiday Inn Ponce & Tropical Casino, 3315 Ponce By Pass, Ponce, Puerto Rico.

June 24th, 2014—7 p.m.-10 p.m.—Doubletree by Hilton San Juan Hotel, De Diego Avenue, San Juan, Puerto Rico.

June 25th, 2014—7 p.m.-10 p.m.—Club Náutico de Arecibo, Rd. 681 Km 1.4, Arecibo, Puerto Rico.

June 26th, 2014—7 p.m.-10 p.m.—Mayaguez Holiday Inn, 2701 Hostos Avenue, Mayaguez, Puerto Rico.

June 30th, 2014—7 p.m.-10 p.m.—Asociación de Pescadores Unidos de Playa Húcares de Naguabo, Naguabo, Puerto Rico.

In the U.S. Virgin Islands:

June 23rd, 2014—7 p.m.-10 p.m.—Windward Passage Hotel, Charlotte Amalie, St. Thomas, U.S. Virgin Islands.

June 24th, 2014—7 p.m.-10 p.m.—Buccaneer Hotel, Estate Shoys, Christiansted, St. Croix, U.S. Virgin Islands.

FOR FURTHER INFORMATION CONTACT: Caribbean Fishery Management Council, 270 Muñoz Rivera Avenue, Suite 401, San Juan, Puerto Rico 00918-1903, telephone: (787) 766-5926.

SUPPLEMENTARY INFORMATION: The Council will first convene the public hearing to take comments on the Annual Catch Limit Control Rule. Immediately following that public hearing the Council will convene the scoping meeting to discuss alternative approaches for establishing fishing season closures that are required in response to overages of an annual catch limit. Specifically, the Council intends to receive public input on the following management actions:

Public Hearing

Draft Comprehensive Amendment to the U.S. Caribbean Fishery Management Plans: Annual Catch Limit Control Rule

Summary: NMFS, in collaboration with the Council, has developed this Comprehensive Amendment and its Draft Environmental Assessment to establish an “Annual Catch Limit (ACL) Control Rule” to adjust the current buffer reduction applied to the overfishing limit (OFL), or to the acceptable biological catch (ABC) (if specified), to derive the ACL for species managed by the Council in Puerto Rico, St. Croix, and St. Thomas/St. John Exclusive Economic Zone (EEZ). The control rule would apply a specific buffer reduction based on the current status of the fishery management unit (FMU) as determined by NMFS. Establishing this control rule would provide the Council and NMFS the flexibility to respond quickly to changes in the fishery.

The alternatives considered in this Comprehensive Amendment address the following issue:

The 2010 Caribbean ACL Amendment (FR 76 82404) and the 2011 Caribbean ACL Amendment (FR 76 82414), both implemented in 2012, established ACLs for all species managed by the Council. Annual catch limits for managed species were derived from buffer reductions to their respective OFL or ABC to account for scientific and management uncertainty. The Council considered the overfishing status of stocks at the time of preparation of these amendments when determining how much uncertainty (percent reduction) should be applied to the OFL or the ABC (if specified) to derive the ACL for each FMU and sector (commercial or recreational) within the unit.

Since the completion of these amendments, the overfishing status of several of these FMUs has changed, and it is anticipated that future changes in overfishing status will occur. To respond to this situation, the Council requested a modification to the regulations to ensure that, when the overfishing status of a stock changes, the buffer reduction applied to the appropriate management reference point to determine the ACL should be changed accordingly. Establishing an “ACL Control Rule” through this comprehensive amendment would provide for a new and straightforward process that would allow for ACL revisions based on overfishing status.

Proposed Action and Alternatives

Action: Establish a control rule to adjust the buffer reduction applied to the OFL or to the ABC used to derive the ACL to reflect a change in overfishing status of the stock. There are three alternatives for this action:

Alternative 1: No Action. Do not establish a control rule to adjust the buffer reduction applied to the OFL or the ABC to determine the ACL for all FMUs for which harvest is allowed. The buffer reductions to the OFL or the ABC would continue to be those defined in the 2010 and 2011 Caribbean ACL Amendments.

Alternative 2: For all FMUs for which harvest is allowed (or where applicable), establish an ACL Control Rule where ACL = [OFL (or ABC) × (0.85)] for FMUs determined to be subject to overfishing, and where ACL = [OFL (or ABC) × (0.90)] for FMUs determined not to be subject to overfishing in a specific year.

Alternative 3 (Preferred): Establish an ACL Control Rule where ACL = [OFL (or ABC) × (0.85)] for FMUs determined to be subject to overfishing, and where ACL = [OFL (or ABC) × (0.90)] for FMUs determined not to be subject to overfishing in a specific year. The ACL control rule would apply to FMUs for which harvest is allowed, with the exception of the following FMUs, for which buffer reductions to the OFL or ABC specified in the 2010 and/or 2011 Caribbean ACL amendment would continue to be applied to derive the ACL:

Sub-alternative 3a (Preferred). Parrotfish FMU—As defined in the 2010 Caribbean ACL Amendment, ACL = [ABC × (0.85)]. An additional 5.8822% reduction to the ACL of the parrotfish FMU would continue to be applied in the St. Croix management area to further reduce harvest from this direct fishery in recognition of the ecological role of parrotfish as herbivores. Sub-alternative 3b (Preferred). Surgeonfish FMU—As defined in the 2011 Caribbean ACL Amendment, ACL = [ABC × (0.75)] to reflect the ecological role of surgeonfish as herbivores in coral reefs.

Sub-alternative 3c (Preferred). Angelfish FMU—As defined in the 2011 Caribbean ACL Amendment, ACL = [ABC × (0.75)] to reflect the ecological role of angelfish as spongivores in coral reefs. Sub-alternative 3d (Preferred). Queen conch FMU—As defined in the 2010 Caribbean ACL Amendment, for St. Croix, ACL = ABC specified by the Caribbean Fishery Management Council's Scientific and Statistical Committee. For Puerto Rico and St. Thomas/St. John, ACL = 0. Sub-alternative 3e (Preferred). Aquarium trade species FMU—As defined in the 2011 Caribbean ACL Amendment, ACL = [ABC × (0.75)] for aquarium trade species in the Corals and Reef Associated Plants and Invertebrates FMP and in the Reef Fish FMP.

Scoping Meeting

Scoping Document To Address the Timing of Accountability Measure-Based Seasonal Closures in All U.S. Caribbean Fishery Management Plans

Summary: In U.S. Caribbean federal waters, accountability measures (AMs) require NMFS' Assistant Administrator to shorten the length of the fishing season if it has been determined that prior year(s) landings exceeded the ACL for an FMU. The fishing season would be shortened in the year following an overage determination by the amount necessary to constrain landings to the ACL. These AM-based reductions in the length of the fishing season, for any FMU for which the ACL has been exceeded, are implemented beginning on December 31st of the appropriate year and extending backwards in the year for the number of days necessary to achieve the required reduction in landings. Fishers have expressed to the Council that the timing of these closures results in negative socio-economic impacts. To address this issue, the Council is proposing to develop a mechanism that allows them and NMFS to establish closure dates other than the standard end of the year closures in the event of an overage of the ACL for a specific group of species. There are several approaches that the Council could consider to evaluate and eventually establish a mechanism to guide the selection of AM-based seasonal closures:

Default AM-Closure Date—No Action

Accountability measure-based closures would continue to be implemented beginning on December 31st of the appropriate year and extending backwards in the year for the number of days necessary to achieve the required reduction in landings.

“Customized” Approach/Mechanism

Change the default AM-closure date (closures start from December 31st going backwards). This procedure to set the timing of the closures would consist of performing an analysis every year for those units that exceeded the ACL over the average of a chosen number of years, and choosing the best date to close the season for the next year based on that specific analysis.

“Upfront” Timing Approach (Pre-Determined AM-Based Closure Dates)

This approach would also change the default AM-closure date but in a different way than the “Customized” Process/Mechanism. This approach would consist of a one-time pre-determination and establishment of closure dates (e.g., start or end date) for all Council FMUs (or alternatively apply the analysis to a selected group of FMUs) and implement through rulemaking. The start or end date would not have to be the same for each FMU.

The goal of this Scoping Hearing is to allow the public to comment on the options listed above and to provide alternative options not yet considered by the Council and NMFS, considering the goals of remaining within the ACL and lessening the socio-economic impact of AMs.

Written comments can be sent to the Council not later than July 25th, 2013, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: June 3, 2014.
Tracey L. Thompson,
Acting Deputy Director, Office of Sustainable Fisheries, National Marine Fisheries Service.

[FR Doc. 2014-13236 Filed 6-5-14; 8:45 am]

BILLING CODE 3510-22-P